DEPARTMENT OF TRANSPORTATION

Federal Aviation Administration

Commercial Space Transportation Advisory Committee; Open Meeting

AGENCY: Federal Aviation Administration (FAA), DOT.

ACTION: Notice of Commercial Space Transportation Advisory Committee Open Meeting.

SUMMARY: Pursuant to Section 10(a)(2) of the Federal Advisory Committee Act (Pub. L. 92-463, 5 U.S.C. App. 2), notice is hereby given of a meeting of the Commercial Space Transportation Advisory Committee (COMSTAC). The meeting will take place on, Tuesday, September 16, 2014, from 8:00 a.m. to 5:00 p.m., and Wednesday, September 17, 2014, from 8:30 a.m. to 4:00 p.m., at the National Transportation Safety Board Conference Center, 429 L'Enfant Plaza SW., Washington, DC 20594. This will be the 60th meeting of the COMSTAC.

The proposed schedule for the COMSTAC working group meetings on September 16th is below:

—Operations (8:00 a.m.-10:00 a.m.)

—Business/Legal (10:00 a.m.-12:00 a.m.)

—Systems (1:00 p.m.-3:00 p.m.)

—International Space Policy (3:00 p.m.-5:00 p.m.)

The full Committee will meet on September 17th. The proposed agenda for that meeting features speakers relevant to the commercial space transportation industry; and reports and recommendations from the working groups.

Interested members of the public may submit relevant written statements for the COMSTAC members to consider under the advisory process. Statements may concern the issues and agenda items mentioned above and/or additional issues that may be relevant for the U.S. commercial space transportation industry. Interested parties wishing to submit written statements should contact Michael Beavin, COMSTAC Executive Officer, (the Contact Person listed below) in writing (mail or email) by August 30, 2014, so that the information can be made available to COMSTAC members for their review and consideration before the September 16th and 17th meetings. Written statements should be supplied in the following formats: One hard copy with original signature and/or one electronic copy via email.

A portion of the September 17th meeting will be unavailable to the public (starting at approximately 4:00 p.m.).

An agenda will be posted on the FAA Web site at www.faa.gov/go/ast. For specific information concerning the times and locations of the COMSTAC working group meetings, contact the Contact Person listed below.

Individuals who plan to attend and need special assistance, such as sign language interpretation or other reasonable accommodations, should inform the Contact Persons listed below in advance of the meeting.

FOR FURTHER INFORMATION CONTACT: Michael Beavin, COMSTAC Executive Director, telephone (202) 267-9051; email michael.beavin@faa.gov, FAA Office of Commercial Space Transportation (AST-3), 800 Independence Avenue SW., Room 331, Washington, DC 20591.

Complete information regarding COMSTAC is available on the FAA Web site at: http://www.faa.gov/about/office_org/headquarters_offices/ast/advisory_committee/.

Issued in Washington, DC, on July 31, 2014.
George C. Nield,
Associate Administrator for Commercial Space Transportation.

[FR Doc. 2014-18629 Filed 8-6-14; 8:45 am]

BILLING CODE 4910-13-P